DEPARTMENT OF THE INTERIOR

National Park Service

Chesapeake and Ohio Canal National Historical Park Advisory Commission; Notice of Public Meeting

Notice is hereby given in accordance with the Federal Advisory Committee Act that a meeting of the Chesapeake and Ohio Canal National Historical Park Advisory Commission will be held at 10 a.m. on Friday, February 7, 2003, a park headquarters, 1850 Dual Highway, Suite 100, Hagerstown, Maryland.

The Commission was established by Pub. L. 91-664 to meet and consult with the Secretary of the Interior on general policies and specific matters related to the administration and development of the Chesapeake and Ohio Canal National Historical Park.

The members of the Commission are as follows:

Mrs. Sheila Rabb Weidenfeld, Chairman

Mr. Charles J. Weir

Mr. Barry A. Passett

Mr. Terry W. Hepburn

Ms. Elise B. Heinz

Ms. JoAnn M. Spevacek

Mrs. Mary E. Woodward

Mrs. Donna Printz

Mr. Rockwood H. Foster

Mrs. Ferial S. Bishop

Ms. Nancy C. Long

Mrs. Jo Reynolds

Dr. James H. Gilford

Mrs. Sue Ann Sullivan

Brother James Kirkpatrick

Topics that will be presented during the meeting include:

1. Status of the draft Land Protection Plan

2. Major construction/development projects

3. Historic Leasing Program

4. Duke Power Company right-of-way easement application

5. Mecklenburg Warehouse planning project

6. Western Maryland Railroad right-of-way planning study

7. Business Plan

The meeting will be open to the public. Any member of the public may file with the Commission a written statement concerning the matters to be discussed. Persons wishing further information concerning this meeting, or who wish to submit written statements, may contact Douglas D. Faris, Superintendent, C&O Canal National Historical Park, 1850 Dual Highway, Suite 100, Hagerstown, Maryland 21740.

Minutes of the meeting will be available for public inspection six (6) weeks after the meeting at park headquarters, Hagerstown, Maryland.

Dated: November 26, 2002.
Douglas Faris,
Superintendent, C&O Canal National Historical Park.

[FR Doc. 03-1001 Filed 1-15-03; 8:45 am]

BILLING CODE 4310-70-M